DEPARTMENT OF THE INTERIOR

Fish and Wildlife Service

[Docket No. FWS-HQ-IA-2017-0020; FXIA16710900000-178-FF09A30000]

Endangered Species; Receipt of Applications for Permit

AGENCY: Fish and Wildlife Service, Interior.

ACTION: Notice of receipt of applications for permit.

SUMMARY: We, the U.S. Fish and Wildlife Service, invite the public to comment on applications to conduct certain activities with endangered species. With some exceptions, the Endangered Species Act (ESA) prohibits activities with listed species unless Federal authorization is acquired that allows such activities.

DATES: We must receive comments or requests for documents on or before July 3, 2017.

ADDRESSES: Submitting Comments: You may submit comments by one of the following methods:

• Federal eRulemaking Portal: http://www.regulations.gov. Follow the instructions for submitting comments on Docket No. FWS-HQ-IA-2017-0020.

• U.S. mail or hand-delivery: Public Comments Processing, Attn: Docket No. FWS-HQ-IA-2017-0020; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Endangered Species Applications: Joyce Russell, Government Information Specialist, Division of Management Authority, U.S. Fish and Wildlife Service Headquarters, MS: IA; 5275 Leesburg Pike, Falls Church, VA 22041-3803; telephone 703-358-2023; facsimile 703-358-2280.

Wild Bird Conservation Act Applications: Craig Hoover, Chief, Division of Management Authority, U.S. Fish and Wildlife Service Headquarters, MS: IA; 5275 Leesburg Pike, Falls Church, VA 22041-3803; telephone 703-358-2095; facsimile 703-358-2298.

If you use a telecommunications device for the deaf (TDD), call the Federal Relay Service at 800-877-8339.

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685, January 26, 2009), which call on all Federal agencies to promote openness and transparency in Government by disclosing information to the public, we invite public comment on these permit applications before final action is taken.

III. Permit Applications

A. Endangered Species

We invite the public to comment on applications to conduct certain activities with endangered species. With some exceptions, the Endangered Species Act (16 U.S.C. 531 et seq.; ESA) prohibits activities with listed species unless Federal authorization is acquired that allows such activities.

Applicant: Tony Goldberg, University of Wisconsin, Madison, WI; PRT-16647C

The applicant requests a permit to import blood, saliva, and hair samples from 48 Wild born chimpanzees (Pan troglodytes) and two captive-born chimpanzees (Pan troglodytes) for the purpose of scientific research. This notification covers activities to be conducted by the applicant over a 5-year period.

Applicant: U.S. Centers for Disease Control and Prevention, Atlanta, GA; PRT-14106C

The applicant requests a permit to import biological samples, common chimpanzee (Pan troglodytes), from captive-bred or wild species for the purpose of scientific research. This notification covers activities to be conducted by the applicant over a 5-year period.

Applicant: Schubot Exotic Bird Health Center, College Station, TX; PRT-19878C

The applicant requests a permit to import biological samples from the Great green macaw, (Ara Ambiguus) for the purpose of scientific research. This notification covers activities to be conducted by the applicant over a 1-year period.

Applicant: University of Alaska Fairbanks, Dept. Veterinary Medicine, Fairbanks, AK; PRT-24212C

The applicant requests a permit to import biological samples from green sea turtle, (Chelonia mydas) for the purpose of scientific research. This notification covers activities to be conducted by the applicant over a 1-year period.

Applicant: Crocodile Conservation Institute, Hamer, SC; PRT-00190C

The applicant requests a captive-bred wildlife registration under 50 CFR 17.21(g) for the following species to enhance species propagation or survival: Galapagos tortoise (Chelonoidis nigra), Siamese crocodile (Crocodylus siamensis), African slender-snouted crocodile (Crocodylus cataphractus), Chinese alligator (alligator sinensis), Dwarf crocodile (osteolamus tetraspis), Broad-snouted caiman (Caiman latirostris). This notification covers activities to be conducted by the applicant over a 5-year period.

Applicant: McCarthy's Wildlife Sanctuary, West Palm Beach, FL; PRT-95720B

The applicant requests a captive-bred wildlife registration under 50 CFR 17.21(g) for the following species to enhance species propagation or survival: Galapagos tortoise (Chelonoidis nigra), Radiated tortoise (Astrochelys radiate), Grand cayman inguana (Cyclura nubilis lewisii), Ring-tailed lemur (Lemur catta), Black and white ruffed lemur (Varecia variegate), Red ruffed lemur (Varecia rubra), cottontop tamarin (Saguigus oedipus), Clouded leopard (Neofelis nebulosa), Snow leopard (Unicia unicia), Spotted leopard (Panthera pardus), Africian lion (Panthera leo). This notification covers activities to be conducted by the applicant over a 5-year period.

Applicant: Zooworld Zoological and Botanical Conservatory, Panama City Beach, FL; PRT-99140B

The applicant requests a captive-bred wildlife registration under 50 CFR 17.21(g) for the following species to enhance species propagation or survival: Military macaw (Ara miliaris), Ring-tailed lemur, (Lemur catta), Black and white ruffed lemur (Varecia variegate), Red-ruffed lemur (Varecia rubra), Cottontop tamarin (Saguinus oedipus), Goeldi's marmoset (Callimico goeldii), Diana monkey (Cerocpithecus diana), Siamang (Symphalangus syndactylus). This notification covers activities to be conducted by the applicant over a 5-year period.

Applicant: Michael Lloret, Miami, FL; PRT-04218C

The applicant requests a captive-bred wildlife registration under 50 CFR 17.21(g) for the following species to enhance species propagation or survival: Galapagos tortoise (Chelonoidis nigra), Radiated tortoise (Astrocheleys radiata), aquatic box turtle (Terrapene coahuila), Yellow-spot river turtle (Podocnemis unifilis), Spotted pond turtle (Geoclemys hamiltoni), River tarrapin (Batagur baska), Grand cayman inguana (Cyclura lewisii). This notification covers activities to be conducted by the applicant over a 5-year period.

Applicant: James Lee; Livermore, CA; PRT-93493B

The applicant requests a captive-bred wildlife registration under 50 CFR 17.21(g) for the following species to enhance species propagation or survival: Galapagos tortoise (Geochelone nigra) and an Aquatic box turtle (Terrapene coahuila). This notification covers activities to be conducted by the applicant over a 5-year period.

IV. Next Steps

If the Service decides to issue permits to any of the applicants listed in this notice, we will publish a notice in the Federal Register. You may locate the Federal Register notice announcing the permit issuance date by searching in www.regulations.gov under the permit number listed above in this document.

V. Public Comments

You may submit your comments and materials concerning this notice by one of the methods listed in ADDRESSES. We will not consider comments sent by email or fax or to an address not listed in ADDRESSES.

If you submit a comment via http://www.regulations.gov, your entire comment, including any personal identifying information, will be posted on the Web site. If you submit a hardcopy comment that includes personal identifying information, you may request at the top of your document that we withhold this information from public review. However, we cannot guarantee that we will be able to do so.

We will post all hardcopy comments on http://www.regulations.gov.

VI. Authorities

Endangered Species Act of 1973 (16 U.S.C. 1531).

Joyce Russell,
Government Information Specialist, Branch of Permits, Division of Management Authority.

[FR Doc. 2017-11444 Filed 6-1-17; 8:45 am]

BILLING CODE 4333-15-P